DEPARTMENT OF ENERGY

Federal Energy Regulatory Commission

[Docket No. EC04-151-000, et al.]

Crescent Ridge LLC, et al.; Electric Rate and Corporate Filings

August 27, 2004.

The following filings have been made with the Commission. The filings are listed in ascending order within each docket classification.

1. Crescent Ridge LLC

[Docket Nos. EC04-151-000 and ER02-2310-002]

Take notice that on August 24, 2004, Crescent Ridge LLC (Crescent) filed an application pursuant to section 203 of the Federal Power Act and a notice of status change, seeking authorization for a transaction that would result in the transfer of indirect control of certain jurisdictional rate schedule facilites assocated with Cresent's planned 54.5 megawatt wind farm located in Bureau County, Illinois and jurisdictional books and records.

Crescent states that the transaction will have no effect on competition, rates or regulation and is in the public interest.

Comment Date: 5 p.m. Eastern Time on September 14, 2004.

2. Calpine Fox LLC

[Docket No. EG04-96-000]

Take notice that on August 23, 2004, Calpine Fox LLC (Calpine), filed with the Federal Energy Regulatory Commission an application for determination of exempt wholesale generator status pursuant to part 365 of the Commission's regulations.

Calpine, a Wisconsin limited liability company, states that it proposes to operate an approximately 600 megawatt natural gas-fired combined cycle electric generating facility located in the Town of Kaukauna, Outagamie County, Wisconsin. Calpine further states that copies of the application were served upon the United States Securities and Exchange Commission and Public Service Commission of Wisconsin.

Comment Date: 5 p.m. Eastern Time on September 13, 2004.

3. Fox Energy Company LLC

[Docket No. EG04-97-000]

Take notice that on August 23, 2004, Fox Energy Company LLC (Fox Energy) filed with the Federal Energy Regulatory Commission an application for determination of exempt wholesale generator status pursuant to part 365 of the Commission's regulations.

Fox Energy, a Wisconsin limited liability company, states that it proposes to own an approximately 600 megawatt natural gas-fired combined cycle electric generating facility located in the Town of Kaukauna, Outagamie County, Wisconsin. Fox Energy further states that copies of the application were served upon the United States Securities and Exchange Commission and Public Service Commission of Wisconsin.

Comment Date: 5 p.m. Eastern Time on September 13, 2004.

4. Sulphur Springs Valley Electric Cooperative, Inc.

[Docket No. EL04-128-000]

Take notice that on August 20, 2004, Sulphur Springs Valley Electric Cooperative, Inc. filed a request for waiver of the requirements of Order No. 888, Order No. 889 and Order No. 2004.

Comment Date: 5 p.m. Eastern Time on September 10, 2004.

5. Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.; (Consolidated) Allegheny Power System Operating Companies; Monongahela Power Company, Potomac Edison Company, and West Penn Power Company, All d/b/a Allegheny Power; PJM Interconnection, LLC

[Docket Nos. ER04-156-005, EL04-41-003, RT01-10-000 and RT01-98-000]

Take notice that on August 24 2004, the PJM Transmission Owners, on behalf of the Allegheny Power System Operating Companies: (Monongahela Power Company, The Potomac Edison Company, and West Penn Power Company, all doing business as Allegheny Power); the PHI Operating Companies (Potomac Electric Power Company, Delmarva Power & Light Company, and Atlantic City Electric Company), Baltimore Gas and Electric Company; Jersey Central Power & Light Company; Metropolitan Edison Company; Pennsylvania Electric Company; PECO Energy Company; PPL Electric Utilities Corporation; Public Service Electric and Gas Company; Rockland Electric Company; and UGI Utilities, Inc., tendered for filing replacement tariff sheets for Schedule 12A (cancellation of transmission enhancement charges) of the PJM Open Access Transmission Tariff, in compliance with the Order Accepting Settlement Agreement, 108 FERC ¶ 61,167 (2004), issued August 9, 2004.

Allegheny Power System Operating Companies states that copies of the filing were served on those persons designated on the service lists in the above-captioned dockets.

Comment Date: 5 p.m. Eastern Time on September 14, 2004.

6. Reliant Energy Aurora, LP

[Docket No. ER04-1066-001]

Take notice that on August 24, 2004, Reliant Energy Wholesale Generation, LLC (REWG) submitted a substitute rate sheet to its rate schedule filed July 30, 2004, for a proposed reactive support and voltage control from generation sources service (reactive service) for the Aurora generation facility located in Aurora DuPage County, Illinois. REWG's filing substitutes REWG's affiliate, Reliant Energy Aurora, LP, for REWG as the party-in-interest with respect to the reactive service rate schedule. REWG requests an effective date of September 1, 2004.

Comment Date: 5 p.m. Eastern Time on September 14, 2004.

7. Rolling Hills Generating, L.L.C.

[Docket No. ER04-1098-001]

Take notice that on August 24, 2004, Rolling Hills Generating, L.L.C. (Rolling Hills) pursuant to section 205 of the Federal Power Act (FPA), 16 U.S.C. 824d, and Part 35 of the Commission's regulations, 18 CFR Part 35, submitted for filing a supplement in further support of its August 4, 2004 reactive power service filing. Rolling Hills requests an effective date of October 1, 2004.

Rolling Hills states that it has provided copies of the filing to the designated corporate officials and or representatives of AEPSC and the PJM and the Public Utilities Commission of Ohio, as well as the official service list in this proceeding, if applicable.

Comment Date: 5 p.m. Eastern Time on September 3, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, N.E., Washington, DC 20426.

This filing is accessible on-line at http://www.ferc.gov, using the “eLibrary” link and is available for review in the Commission's Public Reference Room in Washington, DC There is an “eSubscription” link on the Web site that enables subscribers to receive e-mail notification when a document is added to a subscribed docket(s). For assistance with any FERC Online service, please email FERCOnlineSupport@ferc.gov, or call (866) 208-3676 (toll free). For TTY, call (202) 502-8659.

Magalie R. Salas,
Secretary.

[FR Doc. E4-2048 Filed 9-2-04; 8:45 am]

BILLING CODE 6717-01-P